DEPARTMENT OF ENERGY

Federal Energy Regulatory Commission

Combined Notice of Filings #1

Take notice that the Commission received the following electric corporate filings:

Docket Numbers: EC24-57-000.

Applicants: Clean Energy Future—Lordstown, LLC, PowerLord MergerCo, LLC, AL Lordstown Holdings, LLC

Description: Joint Application for Authorization Under Section 203 of the Federal Power Act of Clean Energy Future—Lordstown, LLC, et al.

Filed Date: 3/8/24.

Accession Number: 20240308-5214.

Comment Date: 5 p.m. ET 4/22/24.

Take notice that the Commission received the following Complaints and Compliance filings in EL Dockets:

Docket Numbers: EL24-85-000.

Applicants: Midcontinent Independent System Operator, Inc. v. Southwest Power Pool, Inc.

Description: Complaint of Midcontinent Independent System Operator, Inc. v. Southwest Power Pool, Inc.

Filed Date: 3/8/24.

Accession Number: 20240308-5206.

Comment Date: 5 p.m. ET 4/8/24.

Take notice that the Commission received the following electric rate filings:

Docket Numbers: ER19-90-006.

Applicants: Clean Energy Future—Lordstown, LLC.

Description: Compliance filing: Informational Filing Pursuant to Schedule 2 of the PJM OATT & Request for Waiver to be effective N/A.

Filed Date: 3/8/24.

Accession Number: 20240308-5148.

Comment Date: 5 p.m. ET 3/29/24.

Docket Numbers: ER24-172-003.

Applicants: FirstEnergy Pennsylvania Electric Company.

Description: Tariff Amendment: 2nd Deficiency Ltr Response-Shortened Comment Period & Expedited Order Requested to be effective 12/31/9998.

Filed Date: 3/11/24.

Accession Number: 20240311-5004.

Comment Date: 5 p.m. ET 4/1/24.

Docket Numbers: ER24-1436-000.

Applicants: Public Service Company of Colorado.

Description: § 205(d) Rate Filing: 2024-03-08—GVH—GI-2020-18—SGIA Amnd 1-663-0.0.0 to be effective 4/1/2024.

Filed Date: 3/8/24.

Accession Number: 20240308-5166.

Comment Date: 5 p.m. ET 3/29/24.

Docket Numbers: ER24-1438-000.

Applicants: PJM Interconnection, L.L.C.

Description: § 205(d) Rate Filing: Amendment to ISA, SA No. 6819; Queue No. AC1-188 (amend) to be effective 5/11/2024.

Filed Date: 3/11/24.

Accession Number: 20240311-5102.

Comment Date: 5 p.m. ET 4/1/24.

Docket Numbers: ER24-1440-000.

Applicants: Midcontinent Independent System Operator, Inc.

Description: § 205(d) Rate Filing: 2024-03-05_SA 4208 4209 MP-MP FCAs Square Butte TSRs to be effective 2/28/2024.

Filed Date: 3/11/24.

Accession Number: 20240311-5121.

Comment Date: 5 p.m. ET 4/1/24.

Docket Numbers: ER24-1442-000.

Applicants: PacifiCorp.

Description: Tariff Amendment: Termination of BPA Kennewick Mobile REDI Communications Agr to be effective 6/10/2024.

Filed Date: 3/11/24.

Accession Number: 20240311-5172.

Comment Date: 5 p.m. ET 4/1/24.

Docket Numbers: ER24-1446-000.

Applicants: PJM Interconnection, L.L.C.

Description: § 205(d) Rate Filing: Amendment to ISA SA No. 6973 and CSA SA No. 6126; Queue No. AD2-134 to be effective 5/13/2024.

Filed Date: 3/11/24.

Accession Number: 20240311-5214.

Comment Date: 5 p.m. ET 4/1/24.

Take notice that the Commission received the following electric reliability filings:

Docket Numbers: RD24-6-000.

Applicants: North American Electric Reliability Corporation.

Description: North American Electric Reliability Corporation submits Petition for Approval of new, revised, and retired definitions of terms related to the calculation of Reporting Area Control Error.

Filed Date: 3/8/24.

Accession Number: 20240308-5212.

Comment Date: 5 p.m. ET 4/10/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: March 11, 2024.
Debbie-Anne A. Reese,
Acting Secretary.

[FR Doc. 2024-05552 Filed 3-14-24; 8:45 am]

BILLING CODE 6717-01-P